DEPARTMENT OF AGRICULTURE

Animal and Plant Health Inspection Service

[Docket No. APHIS-2010-0111]

APHIS User Fee Web Site

AGENCY: Animal and Plant Health Inspection Service, USDA.

ACTION: Notice.

SUMMARY: The Animal and Plant Health Inspection Service charges user fees, as authorized by law, to recover the costs of providing certain services. This notice announces the availability of a Web site that contains information about the Agency's user fees.

ADDRESSES: The Agency's user fee Web site is located at: http://www.aphis.usda.gov/userfees/index.shtml.

FOR FURTHER INFORMATION CONTACT: For information about the Web site, contact Ms. Cindy Howard, Assistant Deputy Administrator for Regulatory Coordination, Policy and Program Development, APHIS, 4700 River Road Unit 20, Riverdale, MD 20737; (301) 734-5957. For information about APHIS' user fees, contact Mrs. Kris Caraher, Section Head, User Fees Section, Financial Services Branch, FMD, MRPBS, APHIS, 4700 River Road Unit 54, Riverdale, MD 20737; (301) 734-0882.

SUPPLEMENTARY INFORMATION: A user fee is a charge to identifiable recipients (e.g., individuals or firms)—users—of goods and services provided by the Federal Government. The Federal Government charges user fees only when prescribed or authorized by law. User fees are charged for goods and services that directly benefit the recipient or that are necessary to protect the public from incurring costs that may result from the recipient's activities. Through the user fee, recipients of the goods or services pay the Federal Government for the cost of providing the goods or services. The cost is not borne by the general taxpayer.

APHIS charges a user fee to recover the costs of providing the following goods and services:

• Agricultural quarantine and inspection (AQI) services

• Export certification of plants and plant products

• Veterinary services for imports and exports of live animals and products

• Veterinary diagnostic goods and services

Additionally, when Federal employees provide certain import- and export-related services funded by user fees outside their normal working hours, APHIS may charge an additional fee to cover the costs of overtime. This category of services is called reimbursable overtime services.

For each of these user fee programs, the Web site provides a description of the services or goods for which a fee is charged, the statutory authority for APHIS to collect and retain the fees, the current rates, how APHIS determined the amount of the fees, any scheduled rate changes, and other information pertinent to that user fee program. In the near future, we plan to add information on the status of collections and expenditures in each user fee program.

The Web site also answers general questions about APHIS' user fees, including:

• Why does APHIS charge user fees for some activities and not others?

• What happens to the money that APHIS collects through user fees?

• How does APHIS determine the amount of its fees?

• How reliable are the projections upon which the fees are based?

• What happens when variable factors fluctuate?

• How often will user fees be adjusted?

• How often are the fees reviewed?

• What is the process for changing the fees?

APHIS developed the user fee Web site to enhance transparency and predictability regarding its user fee programs. The Web site will include a way in the near future for the public to submit comments or questions to APHIS on either the Web page itself (e.g., ease of use, content) or on the user fee programs or specific fees. We also plan to allow interested members of the public to sign up to receive notifications when changes are made to the user fee Web page.

Done in Washington, DC, this 16th day of November 2010.
Kevin Shea,
Acting Administrator, Animal and Plant Health Inspection Service.

[FR Doc. 2010-30208 Filed 12-1-10; 8:45 am]

BILLING CODE 3410-34-P